DEPARTMENT OF DEFENSE

Office of the Secretary

[Docket ID: DOD-2012-OS-0001]

Privacy Act of 1974; System of Records

AGENCY: U.S. Strategic Command, DoD.

ACTION: Notice to Add a System of Records.

SUMMARY: The U.S. Strategic Command proposes to add a system of records to its inventory of record systems subject to the Privacy Act of 1974 (5 U.S.C. 552a), as amended.

DATES: This proposed action will be effective on February 13, 2012 unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Kendall Cooper, USSTRATCOM/J636 (CSC), 901 SAC Blvd., Ste 1H10, Offutt AFB, NE 68113-6000, or at (402) 294-6321.

SUPPLEMENTARY INFORMATION: The U.S. Strategic Command systems of records notices subject to the Privacy Act of 1974 (5 U.S.C. 552a), as amended, have been published in the Federal Register and are available from the address in FOR FURTHER INFORMATION CONTACT.

The proposed system report, as required by 5 U.S.C. 552a(r) of the Privacy Act of 1974, as amended, was submitted on January 10, 2012, to the House Committee on Oversight and Government Reform, the Senate Committee on Homeland Security and Governmental Affairs, and the Office of Management and Budget (OMB) pursuant to paragraph 4c of Appendix I to OMB Circular No. A-130, “Federal Agency Responsibilities for Maintaining Records About Individuals”, dated February 8, 1996 (February 20, 1996, 61 FR 6427).

Dated: January 10, 2012.
Aaron Siegel,
Alternate OSD Federal Register Liaison Officer, Department of Defense.

FSTRATCOM 01

System name:

Command Data Records

System location:

United States Strategic Command, Command Protocol, 901 SAC Blvd., Suite 2A9, Offutt AFB, NE 68113.

Categories of individuals covered by the system:

Current USSTRATCOM active duty leadership, former USSTRATCOM leadership and notable civilians in the local area, state government officials, US government leadership for Nebraska, Offutt AFB (55th Wing).

Categories of records in the system:

Individuals name, address, gender, status (DoD or Non-DoD), type (military or civilian), service, rank, date of rank, duty title, work address, phone number and email address, secretary name, food preference/dietary restrictions, group affiliation (within same database), spouse information, home address (if work address not available), home phone (if work phone not available), home email (if work email not available).

Authority for maintenance of the system:

10 U.S.C. 301, Departmental Regulations; SI 901-5, Visit and Event Management; AFMAN 33-363, Management of Records; AFI 33-332, Air Force Privacy Program; SI 900-7, Privacy Act Program; and SI 930-1, Records Management Program.

Purpose(s):

This system of records will be used to maintain records of military and community distinguished visitors for informational purposes for invitations for official visits, events, or ceremonies.

Routine uses of records maintained in the system, including categories of users and the purposes of such uses:

In addition to those disclosures generally permitted under 5 U.S.C. 552a(b) of the Privacy Act of 1974, as amended, the records contained therein may specifically be disclosed outside the DoD as a routine use pursuant to 5 U.S.C. 552a(b)(3) as follows:

Any release of information contained in this system of records outside of the DoD will be compatible with purposes for which the information is collected and maintained.

To state government, agencies or external organizations in order to provide information for invitations to ceremonies or events that are hosted by them.

Policies and practices for storing, retrieving, accessing, retaining, and disposing of records in the system:

Storage:

Electronic storage media.

Retrievability:

By individual's name.

Safeguards:

Access to records is restricted to those users who have an official need-to-know within the Command Protocol office, and who are properly trained to use the system. As a further security measure, access to the system is controlled by Common Access Card (CAC) according to USSTRATCOM policy governing access to data on Command networks. All users are required to complete Information Assurance and Privacy training. Electronic records are maintained within secured buildings in areas accessible only to persons having an official need-to-know, and who are properly trained and screened. No physical records are maintained for this system.

Retention and disposal:

Cut off on completion of event, hold 5 years, then destroy/delete; or destroy/delete when no longer needed, whichever is later.

System manager(s) and address:

United States Strategic Command, Command Protocol, 901 SAC Blvd., Suite 2A9, Offutt AFB, NE 68113-6000.

United States Strategic Command—J636 (CSC), 901 SAC Blvd., Suite 1H10, Offutt AFB, NE 68113-6000.

Notification procedure:

Individuals seeking to determine whether information about themselves is contained in this system should address written inquiries to Command Protocol, United States Strategic Command, 901 SAC Blvd., Suite 2A9, Offutt AFB, NE 68113-6000.

For verification purposes, the individual should provide full name and signature.

Record access procedures:

Individuals seeking to determine whether information about themselves is contained in this system should address written inquiries to Command Protocol, United States Strategic Command, 901 SAC Blvd., Suite 2A9, Offutt AFB, NE 68113-6000.

For verification purposes, individual should provide full name and signature.

Contesting record procedures:

The USSTRATCOM rules for assessing records, for contesting and appealing initial agency determinations may be obtained from the system manager.

Record source categories:

From the individual.

Exemptions claimed for the system:

None.

[FR Doc. 2012-573 Filed 1-12-12; 8:45 am]

BILLING CODE 5001-06-P